DEPARTMENT OF ENERGY

Renewal of a Currently Approved Information Collection for the Energy Efficiency and Conservation Block Grant Financing Programs

AGENCY: Office of Energy Efficiency and Renewable Energy, U.S. Department of Energy.

ACTION: Notice and request for comments.

SUMMARY: The Department of Energy (DOE), pursuant to the Paperwork Reduction Act of 1995, intends to extend for three years a currently approved collection of information with the Office of Management and Budget (OMB). The information collection request, Energy Efficiency and Conservation Block Grant Program, was previously approved under OMB Control No. 1910-5150 and its current expiration date is September 30, 2021. The proposed collection will collect information on the status of Grantee activities, expenditures, and results, to ensure that program funds are being used appropriately, effectively, and expeditiously.

DATES: Comments regarding this collection must be received on or before August 6, 2021. If you anticipate that you will be submitting comments, but find it difficult to do so within the period of time allowed by this notice, please advise the OMB Desk Officer of your intention to make a submission as soon as possible. The Desk Officer may be telephoned at (202) 395-4650.

ADDRESSES: Written comments should be sent to the DOE Desk Officer, Office of Information and Regulatory Affairs, Office of Management and Budget, New Executive Office Building, Room 10102, 735 17th Street NW, Washington, DC 20503.

And to

Pam Mendelson, EE-5W, U.S. Department of Energy, 1000 Independence Ave. SW, Washington, DC 20585, Email: Pam.Mendelson@ee.doe.gov.

FOR FURTHER INFORMATION CONTACT: Requests for additional information or copies of the information collection instrument and instructions should be directed to:, James Carlisle, U.S. Department of Energy, 1000 Independence Ave. SW, Washington, DC 20585, Phone: (202) 287-1724, Fax: (412) 386-5835, Email: James.Carlisle@ee.doe.gov.

SUPPLEMENTARY INFORMATION: This information collection request contains: (1) OMB No.: 1910-5150; (2) Information Collection Request Title: Energy Efficiency and Conservation Block Grant Program Financing Programs; (3) Type of Review: Renewal of a Currently Approved Information Collection; (4) Purpose: To collect information on the status of Financing Program activities, expenditures, and results, to ensure that program funds are being used appropriately, effectively and expeditiously; (5) Annual Estimated Number of Respondents: 54; (6) Annual Estimated Number of Total Responses: 101; (7) Annual Estimated Number of Burden Hours: 303; (8) Annual Estimated Reporting and Recordkeeping Cost Burden: $12,120. Respondents, total responses, burden hours and the annual cost burden have all been reduced over time because of the retirement of grants, fewer programs and a lessened burden on reporting and recordkeeping costs.

Statutory Authority: Title V, Subtitle E of the Energy Independence and Security Act (EISA), Public Law 110-140 as amended (42 U.S.C. 17151 et seq.).

Signing Authority

This document of the Department of Energy was signed on May 27, 2021, by Anna Maria Garcia, Acting Deputy Assistant Secretary for Energy Efficiency, Office of Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, June 2, 2021.
Treena V. Garrett,
Federal Register Liaison Officer, U.S. Department of Energy.

[FR Doc. 2021-11834 Filed 6-4-21; 8:45 am]

BILLING CODE 6450-01-P